INTERNATIONAL TRADE COMMISSION

[Investigation No. 731-TA-130 (Fourth Review)]

Chloropicrin From China

Determination

On the basis of the record ¹ developed in the subject five-year review, the United States International Trade Commission (“Commission”) determines, pursuant to the Tariff Act of 1930, that revocation of the antidumping duty order on chloropicrin from China would be likely to lead to continuation or recurrence of material injury to an industry in the United States within a reasonably foreseeable time.

¹ The record is defined in sec. 207.2(f) of the Commission's Rules of Practice and Procedure (19 CFR 207.2(f)).

Background

The Commission, pursuant to section 751(c) of the Tariff Act of 1930 (19 U.S.C. 1675(c)), instituted this review on April 1, 2015 (80 FR 17496) and determined on July 6, 2015 that it would conduct an expedited review (80 FR 43461, July 22, 2015).

The Commission made this determination pursuant to section 751(c) of the Tariff Act of 1930 (19 U.S.C. 1675(c)). It completed and filed its determination in this review on August 20, 2015. The views of the Commission are contained in USITC Publication 4561 (August 2015), entitled Chloropicrin from China: Investigation No. 731-TA-130 (Fourth Review).

By order of the Commission.
Issued: September 1, 2015.
Lisa R. Barton,
Secretary to the Commission.

[FR Doc. 2015-22061 Filed 9-4-15; 8:45 am]

BILLING CODE 7020-02-P